DEPARTMENT OF THE INTERIOR

National Park Service

National Register of Historic Places; Notification of Pending Nominations

Nominations for the following properties being considered for listing in the National Register were received by the National Park Service before April 28, 2001. Pursuant to section 60.13 of 36 CFR part 60 written comments concerning the significance of these properties under the National Register criteria for evaluation may be forwarded to the National Register, National Park Service, 1849 C St. NW., NC400, Washington, DC 20240. Written comments should be submitted by May 29, 2001.

Carol D. Shull,
Keeper of the National Register Of Historic Places.

ARIZONA

Pinal County

Grewe Site, Address Restricted, Coolidge, 01000565

FLORIDA

St. Lucie County

Fort Pierce Old Post Office, 500 Orange Ave., Fort Pierce, 01000567

IDAHO

Bonner County

Olson, Charles A. and Mary, House, 401 Church St., Sandpoint, 01000566

Minidoka County

Empire School, (Public School Buildings in Idaho MPS) 300 South 50 East, Rupert, 01000568

ILLINOIS

Champaign County

Warm Air Research House, 1108 W. Stoughton St., Urbana, 01000595

Cook County

Chicago Telephone Company Kedzie Exchange, 17 S. Homan Ave., Chicago, 01000594

Lake County

Lake Forest Cemetery, 1525 N. Lake Rd., Lake Forest, 01000597

Paddock, Henry I., House, 346 Sheridan Rd., Winthrop Harbor, 01000596

Marion County

Bachmann, Charles and Naomi, House, 401 S. Walnut St., Salem, 01000598

Randolph County

Piney Creek Site, (Native American Rock Art Sites of Illinois MPS) Address Restricted, Campbell Hill, 01000601

Piney Creek South Site, (Native American Rock Art Sites of Illinois MPS) Address Restricted, Campbell Hill, 01000602

Piney Creek West Site, (Native American Rock Art Sites of Illinois MPS) Address Restricted, Campbell Hill, 01000600

Tegtmeyer Site, (Native American Rock Art Sites of Illinois MPS) Address Restricted, Campbell Hill, 01000599

LOUISIANA

St. James Parish

Mather House, (Louisiana's French Creole Architecture MPS) 5666 LA 44, Convent, 01000569

MICHIGAN

Lenawee County

Jackson Branch Bridge No. 15, Southern Michigan RR over River Raisin, Raisin Township, 01000572

Mason County

Scottville School, 209 N. Main St., Scottville, 01000571

Wayne County

New Amsterdam Historic District, 435, 450 Amstersam; 440, 41-47 Burroughs; 5911-5919, 6050-6160 Cass; 6100-6200 Second; 425 York, Detroit, 01000570

NEVADA

Douglas County

Gale, Lena N., Cabin, 726 Cedar St., Zephyr Cove, 01000586

Washoe County

Bethel AME Church, 220 Bell St., Reno, 01000587

NEW YORK

Albany County

Lainhart Farm Complex and Dutch Barn, 6755 Lainhart, Altamont, 01000579

Newtonville United Methodist Church, Louden Rd. at Maxwell Rd., Colonie, 01000580

Van Derheyden House, 823 Delaware Ave., Delmar, 01000582

Delaware County

Skene Memorial Library, Main St.—Old NY 28, Fleischmanns, 01000576

Onondaga County

First Baptist Church of Camillus, 23 Genesee St., Camillus, 01000573

Rockland County

Philadelphia Toboggan Company Carousel Number 15, 1000 Palisades Center, West Nyack, 01000583

Schoharie County

Gallupville Methodist Church, Factory St., Schoharie, 01000584

Seneca County

Wilson, Aaron, House, 2037 Wilson Rd., Ovid, 01000577

St. Lawrence County

Childwold Memorial Presbyterian Church, Bancroft Rd., Piercefield, 01000585

Sullivan County

First Methodist Episcopal Church of Parksville, 10 Short Ave., Parksville, 01000575

Hebrew Congregation of Mountaindale Synagogue, NY 55, Mountaindale, 01000578

Roscoe Presbyterian Church and Westfield Flats Cemetery, Old NY 17, Roscoe, 01000574

Ulster County

Jenkins-DuBois Farm and Mill Site, Jenkinstown Rd., Gardiner, 01000581

NORTH DAKOTA

Walsh County

State Bank of Edinburg, 300 Main Ave., Edinburg, 01000588

OHIO

Clermont County

Harmony Hill Dairy House, 299 S. Third St., Williamsburg, 01000592

Columbiana County

East Liverpool Downtown Historic District, (East Liverpool Central Business District MRA) Roughly bounded by W. Sixth St., Dresden Ave., Welch Ave., Broadway, Walnut St., E. Fourth St., and East Alley, East Liverpool, 01000591

Perry County

New Straitsville School, 402 Clark St., New Straitsville, 01000590

Warren County

Corwin Council House and Jail, 946 Harveysburg Rd., Corwin, 01000589

PENNSYLVANIA

Allegheny County

Frew, John, House, 105 Sterrett St., Pittsburgh, 01000593

Bradford County

Protection of the Flag Monument, 715 S. Main St., Athens, 01000604

Somerset County

Stoystown Historic District, (Lincoln Highway Heritage Corridor Historic Resources: Franklin to Westmoreland Counties MPS) Roughly bounded by W & E Forbes Rds., E Main St., Meadow St. E Penn Ave, S Sommerset St., W Penn Ave. and W Main St., Stoystown Borough, 01000605

Washington County

Parkinson, Robert, Farm, PA 18, 0.4 mi. N of Old Concord Village, Morris Township, 01000603

SOUTH CAROLINA

Beaufort County

Beaufort Historic District, Bounded by Beaufort River, Hamar St., and Boundary St., Beaufort, 01000608

Florence County

Jamestown Historic District, Approx. 1 mi. N of US76/301, Florence, 01000610

Hampton County

Bank of Hampton, 15 Elm St., E, Hampton, 01000606

Marion County

Teasley, J.C., House, (Flue-Cured Tobacco Production Properties TR) 131 E. Wine St., Mullins, 01000609

Union County

Woodland Plantation, 3435 Santuc-Carlisle Hwy-SC 215, Carlisle, 01000607

TEXAS

Fannin County

Lake Fannin Organizational Camp, 1 mi. W jct of Cty. Rd. 2025 and State Farm-to-Market Rd. 2554, Caddo National Grasslands, Duplex, 01000611

Travis County

Cox-Craddock House, 720 E. 32nd St., Austin, 01000612

VIRGINIA

Norfolk Independent city Downtown Norfolk Historic District (Boundary Increase), Granby, Freemason, Charlotte, Bute, and York Sts., College Pl. and Monticello Ave., Norfolk (Independent City), 01000613

A request for REMOVAL has been made for the following resources:

ARIZONA

Maricopa County

Smurthwaite House 602 N. 7th St. (Nineteenth Century Residential Buildings in Phoenix MPS) Phoenix, 94001539

VIRGINIA

Albemarle County

Enniscorthy VA 627 .5 mi. S of jct with VA 712 Keene vicinity, 92001273

[FR Doc. 01-12012 Filed 5-11-01; 8:45 am]

BILLING CODE 4310-70-P